DEPARTMENT OF COMMERCE

International Trade Administration

[A-533-824]

Certain Polyethylene Terephthalate Film, Sheet and Strip from India: Preliminary Results and Rescission in Part of Antidumping Duty Administrative Review

AGENCY: Import Administration, International Trade Administration, Department of Commerce.

SUMMARY: In response to requests by certain producers/exporters of the subject merchandise and petitioners,¹ the Department of Commerce (the Department) is conducting an administrative review of the antidumping duty order on certain polyethylene terephthalate film, sheet and strip (PET film) from India. This review covers three producers/exporters of the subject merchandise. The period of review (POR) is July 1, 2004, through June 30, 2005.

¹ The petitioners are Dupont Teijin Films, Mitsubishi Polyester Film Of America, Toray Plastics (America), Inc., and SKC America, Inc.

The Department has preliminarily determined that certain companies subject to this review made U.S. sales at prices less than normal value (NV). If these preliminary results are adopted in our final results of administrative review, we will instruct U.S. Customs and Border Protection (CBP) to assess antidumping duties on all appropriate entries. Interested parties are invited to comment on these preliminary results of review. We will issue the final results of review no later than 120 days from the date of publication of this notice.

EFFECTIVE DATE: April 12, 2006.

FOR FURTHER INFORMATION CONTACT: Magd Zalok (MTZ), Drew Jackson (Polyplex), or Kavita Mohan (Jindal), AD/CVD Operations, Office 4, Import Administration, International Trade Administration, U.S. Department of Commerce, 14th Street and Constitution Avenue, NW., Washington, DC 20230, telephone: (202) 482-4162, (202) 482-4406, or (202) 482-3542, respectively.

SUPPLEMENTARY INFORMATION:

Background

On July 1, 2002, the Department published in the Federal Register the antidumping duty order on PET film from India. See Notice of Amended Final Antidumping Duty Determination of Sales at Less Than Fair Value and Antidumping Duty Order: Polyethylene Terephthalate Film, Sheet, and Strip from India, 67 FR 44175 (July 1, 2002) (Amended Final Determination). On July 1, 2005, the Department published in the Federal Register a notice of “Opportunity to Request Administrative Review” of the antidumping duty order on PET film from India. See Antidumping or Countervailing Duty Order, Finding, or Suspended Investigation; Opportunity to Request Administrative Review, 70 FR 38099 (July 1, 2005).

In accordance with 19 CFR § 351.213(b)(2), the following producers/exporters requested that the Department conduct an administrative review of their sales and entries of subject merchandise into the United States during the POR: Garware Polyester Limited (Garware), MTZ Polyfilms, Ltd. (MTZ), and Jindal Poly Films Limited² (Jindal). Additionally, in accordance with 19 CFR § 351.213(b)(1), on July 29, 2005, petitioners requested that the Department conduct a review of Polyplex Corporation Ltd. (Polyplex) and Jindal. On August 29, 2005, the Department initiated an administrative review of Garware, Jindal, MTZ, and Polyplex. See Initiation of Antidumping and Countervailing Duty Administrative Reviews and Requests for Revocation in Part, 70 FR 51009 (August 29, 2005).

² Formerly Jindal Polyester Limited.

On August 9, 2005, the Department issued its antidumping questionnaire to Garware, Jindal, Polyplex, and MTZ. Subsequently, Garware and Jindal withdrew their respective requests for administrative reviews. In September and October 2005, Jindal, Polyplex, and MTZ responded to the Department's antidumping questionnaire. Thereafter, the Department issued supplemental questionnaires to Jindal, Polyplex, and MTZ and received timely responses. The petitioners submitted no comments regarding the respondents' questionnaire and supplemental questionnaire responses.

The Department is conducting this administrative review in accordance with section 751 of the Tariff Act of 1930, as amended (the Act).

Period of Review

The POR is July 1, 2004, through June 30, 2005.

Scope of the Order

For purposes of this order, the products covered are all gauges of raw, pretreated, or primed PET film, whether extruded or coextruded. Excluded are metallized films and other finished films that have had at least one of their surfaces modified by the application of a performance-enhancing resinous or inorganic layer of more than 0.00001 inches thick. Imports of PET film are currently classifiable in the Harmonized Tariff Schedule of the United States (HTSUS) under item number 3920.62.00.90.³ HTSUS subheadings are provided for convenience and customs purposes. The written description of the scope of this order is dispositive.

³ The scope reflects the HTSUS subheading currently in effect for non-metallized PET film. This HTSUS subheading has been revised since the last completed antidumping duty administrative review of PET film from India.

Partial Rescission of Review

19 CFR § 351.213(d)(1) provides that the Department will rescind an administrative review, in whole or in part, if a party that requested a review withdraws its request within 90 days of the date of publication of the notice of initiation of the requested administrative review. On September 14, 2005, before the 90-day time period expired, Garware withdrew its request to be reviewed by the Department and no other parties requested an administrative review of Garware. Consequently, the Department is rescinding this administrative review with respect to Garware.

Although Jindal withdrew its request to be reviewed, petitioners requested a review of Jindal. Therefore, we have not rescinded this review with respect to Jindal.

Comparison Methodology

In order to determine whether the respondents sold PET film to the United States at prices less than NV, the Department compared the export price (EP) and constructed export price (CEP) of individual U.S. sales to the monthly weighted-average NV of sales of the foreign like product made in the ordinary course of trade. See section 777A(d)(2) of the Act; see also section 773(a)(1)(B)(i) of the Act. Section 771(16) of the Act defines foreign like product as merchandise that is identical or similar to subject merchandise and produced by the same person and in the same country as the subject merchandise. Thus, we considered all products covered by the scope of the order, that were produced by the same person and in the same country as the subject merchandise, and sold by respondents in the comparison market during the POR, to be foreign like products, for the purpose of determining appropriate product comparisons to PET film sold in the United States.

The Department compared U.S. sales to sales made in the comparison market within the contemporaneous window period, which extends from three months prior to the month in which the U.S. sale was made until two months after the month in which the U.S. sale was made. Where there were no sales of identical merchandise made in the comparison market in the ordinary course of trade, the Department compared U.S. sales to sales of the most similar foreign like product made in the ordinary course of trade. In making product comparisons, the Department selected identical and most similar foreign like products based on the physical characteristics reported by the respondents in the following order of importance: grade, thickness, and surface quality.

Subject Merchandise Entered Under Temporary Importation Bonds

In accordance with section 733(d)(2) of the Act, the Department can only assess antidumping duties on subject merchandise entered for consumption in the United States. See Titanium Metals Corp. v. United States, 901 F. Supp. 362 (CIT 1995). Normally, entries under temporary importation bonds (TIBs) are not entered for consumption, and the Department therefore does not assess antidumping or countervailing duties on TIB entries. Consistent with its treatment on assessment of duties, the Department's practice is to exclude those sales that entered under a TIB from its margin calculation because there will be no assessment of antidumping duties on such entries. See e.g., Titanium Sponge From the Republic of Kazakhstan; Notice of Preliminary Results of Antidumping Duty Administrative Review, 64 FR 48793, 48794 (September 8, 1999). However, Article 303.3 of the North American Free Trade Agreement (NAFTA) provides that merchandise entered into the United States under a TIB and subsequently re-exported to another NAFTA party shall be considered to be entered for consumption at the time of re-exportation and shall be subject to all relevant customs duties. MTZ reported sales of merchandise imported under TIBs. There is, however, no claim or evidence on the record that any of this merchandise was, or will be, re-exported to a NAFTA party. Therefore, we have preliminarily excluded these sales from our calculation of MTZ's dumping margin.

Duty Drawback

Before increasing a respondent's reported U.S. sales prices by the amount of duty drawback, pursuant to section 772(c)(1)(B) of the Act, the Department's practice is to examine whether: (1) import duties and rebates are directly linked to, and are dependent upon, one another, or, in the context of a duty exemption, the exemption is linked to the exportation of subject merchandise and (2) the company claiming the adjustment can demonstrate that there are sufficient imports of raw materials to account for the duty drawback received on exports of the manufactured product. See Steel Wire Rope from the Republic of Korea; Final Results of Antidumping Duty Administrative Review, 61 FR 55965, 55968 (October 30, 1996); see also, Stainless Steel Sheet and Strip in Coils from Mexico; Final Results of Antidumping Duty Administrative Review, 68 FR 6889 (February 11, 2003) and accompanying Issues and Decisions Memorandum at Comment 5.

Jindal

Jindal reported that it received duty drawback under the Advance License program. The Advance License program allows Indian companies to import specified materials duty-free if such materials are used to produce a product that is exported by the company. Standard input/output ratios specific to the exported product limit the quantity of each material input that may be imported duty-free. No customs duties are paid on the imported materials; however, there is a contingent liability for the unpaid duties. This contingent liability is extinguished by exporting finished products containing the types of materials covered by the advance license. Jindal did not pay import duties on certain materials because it agreed to export PET film made with such materials. Thus, the record indicates that the duty exemption is linked to the exportation of subject merchandise. Moreover, the record indicates that Jindal imported sufficient quantities of raw materials to account for its exports of PET film to the United States. Accordingly, in calculating EP for Jindal, the Department has preliminarily added an amount for duty drawback to the reported prices.

MTZ

MTZ reported that it received duty drawback under the Duty Entitlement Passbook Scheme (DEPS). Under the DEPS, Indian companies are granted a credit equal to a percentage of the free-on-board (FOB) value of their exports. These companies can then use this credit to offset customs duty owed on imported materials used to manufacture exported products or sell the credit to other Indian importers.

The Department has preliminarily determined that MTZ is not entitled to a duty drawback adjustment. The DEPS does not require a company to link the credit granted on exported merchandise to the actual import duties paid on the types of materials used to manufacture the exported product. While the Department does not require a respondent to link a specific entry of materials on which duties were paid (or which was imported duty-free) to the specific export of the finished product on which the DEPS credit is based, it does require the respondent to demonstrate that the imported materials are of the same type used to produce the exported subject merchandise. Under the scheme, however, DEPS recipients are not required to import the types of inputs used to produce the exported merchandise. Moreover, in this case, MTZ reported that it purchased the major material inputs used to produce the subject merchandise domestically. See MTZ's January 19, 2006 submission, at 56. Based on the foregoing, the Department has preliminarily determined not to increase MTZ's reported U.S. sales prices by the amount of duty drawback claimed under the DEPS.

Level of Trade

In accordance with section 773(a)(1)(B) of the Act, to the extent practicable, we determined NV based on sales in the comparison market at the same level of trade (LOT) as the EP or CEP sales. The NV LOT is that of the starting-price sales in the comparison market or, when NV is based on CV, that of the sales from which we derive selling, general, and administrative expenses and profit. For EP sales, the U.S. LOT is also the level of the starting price sale, which is usually from the exporter to the importer. For CEP sales, the U.S. LOT is the level of the constructed sale from the exporter to its affiliate. The Department adjusts CEP, pursuant to section 772(d) of the Act, prior to performing the LOT analysis, as articulated by 19 CFR § 351.412. See Micron Technology, Inc. v. United States, 243 F.3d, 1301, 1315 (Fed. Cir. 2001).

To determine whether NV sales are at a different LOT than the EP sales, we examine stages in the marketing process and selling functions along the chain of distribution between the producer and the unaffiliated customer. If the comparison market sales are at a different LOT, and the difference affects price comparability, as manifested in a pattern of consistent price differences between the sales on which NV is based and comparison-market sales at the LOT of the export transaction, we make a LOT adjustment under section 773(a)(7)(A) of the Act. For CEP sales, if the NV level is more remote from the factory than the CEP level and there is no basis for determining whether the difference in the levels between NV and CEP affects price comparability, we adjust NV under section 773(A)(7)(B) of the Act (the CEP offset provision). See Notice of Final Determination of Sales at Less Than Fair Value: Certain Carbon Steel Plate from South Africa, 62 FR 61731 (November 19, 1997).

In determining whether the respondents made sales at separate LOTs, we obtained information from all three respondents regarding the marketing stages for the reported U.S. and comparison market sales, including a description of the selling activities performed by respondents for each channel of distribution. Generally, if the reported LOTs are the same, the functions and activities of the seller at each level should be similar. Conversely, if a party reports that LOTs are different for different groups of sales, the selling functions and activities of the seller for each group should be dissimilar.

Jindal

Jindal reported home market sales to two categories of customers through two channels of distribution. The record, however, indicates that Jindal performs the same selling functions in both channels of distribution and, with one exception, performs corresponding selling functions in these channels at the same level of intensity. Therefore, we have preliminarily determined that, during the POR, Jindal sold the foreign like product in the home market at one LOT.

Jindal reported U.S. sales to a single category of customer through one channel of distribution. Because there is only one sales channel in the U.S. market involving the same selling functions for all sales, we have preliminarily determined that there is one LOT in the U.S. market.

In comparing the home and U.S. market LOTs, we found that Jindal performs essentially the same selling functions in both LOTs and, for a majority of these selling functions, there is either no difference, or an insignificant difference, in the level of intensity reported for corresponding selling functions. Therefore, we have preliminarily determined that Jindal sold foreign like product and subject merchandise at the same LOT during the POR and thus a LOT adjustment to NV is not warranted. See Memorandum to the File from the Team, Level of Trade Analysis: Jindal Poly Films Limited, dated concurrently with this notice.

MTZ

MTZ reported home market sales to two categories of customers through one channel of distribution. The record, however, indicates that MTZ performs the same selling functions for both types of customers and, almost without exception, performs corresponding selling functions at essentially the same level of intensity. Therefore, we have preliminarily determined that, during the POR, MTZ sold foreign like product in the home market at one LOT.

MTZ reported U.S. sales though one channel of distribution to two types of customers. The record shows that, regardless of the type of customer, MTZ performs essentially the same selling functions and performs corresponding selling functions at the same level of intensity. Accordingly, we have preliminarily determined that, during the POR, MTZ sold subject merchandise in the U.S. market at one LOT.

In comparing the home and U.S. market LOTs, we found that MTZ performs a majority of the reported selling functions in both LOTs and, for all but one of these functions, MTZ performs corresponding selling functions at the same level of intensity in both LOTs. Therefore, we have preliminarily determined that MTZ sold foreign like product and subject merchandise at the same LOT during the POR and thus a LOT adjustment to NV is not warranted. See Memorandum to the File from the Team, Level of Trade Analysis: MTZ Polyfilms, Ltd., dated concurrently with this notice.

Polyplex

Polyplex's reported home market sales to two categories of customers through two channels of distribution. The record, however, shows that Polyplex performs the same selling functions in both channels of distribution. Although Polyplex performs most of the corresponding selling functions in the two channels at different levels of intensity, we found that the differences in levels of intensity are not so significant as to signal two different marketing stages. Therefore, we have preliminarily determined that, during the POR, Polyplex sold foreign like product in the home market at one LOT.

Polyplex reported CEP sales of subject merchandise to its U.S. affiliate through one channel of distribution. Because there is only one sales channel in the U.S. market involving the same selling functions for all sales, we have preliminarily determined that there is one LOT in the U.S. market.

In comparing the home and U.S. market LOTs, we found significant differences in the types of selling functions performed by Polyplex in each LOT and the levels of intensity at which Polyplex performed those selling functions. Specifically, we found the selling functions performed by Polyplex in the home market LOT to be generally greater in number, and intensity, than those selling functions performed in the U.S. market LOT. Therefore, we have preliminarily determined that, during the POR, Polyplex sold foreign like product at a different, more advanced LOT than that of its U.S. sales of subject merchandise.

Because there is only one LOT in the home market, the difference in the NV and CEP LOTs cannot be quantified. Furthermore, the Department does not have information which would allow it to examine pricing patterns based on sales of other products and there is no other information on the record upon which such an analysis could be based. Therefore, a LOT adjustment is not possible. However, given that we have determined that the home market LOT is more advanced than the U.S. LOT, pursuant to section 773(a)(7)(B) of the Act, we granted Polyplex a CEP offset. See Memorandum from the Team to the File, Level of Trade Analysis: Polyplex Corporation, Ltd., dated concurrently with this notice.

Export Price and Constructed Export Price

We based the price of both Jindal's and MTZ's U.S. sales of subject merchandise on EP, as defined in section 772(a) of the Act, because the merchandise was sold, prior to importation, to unaffiliated purchasers in the United States, and the use of CEP was not otherwise warranted based on the facts of the record. In accordance with section 772(c) of the Act, we calculated EP using prices, less discounts, for packed subject merchandise delivered to unaffiliated purchasers in the United States from which we deducted, where applicable, the following expenses: foreign inland freight (from the plant to the port of exportation), international freight, marine insurance, brokerage and handling, and U.S. duties. In accordance with section 772(c)(1)(C) of the Act, we increased U.S. price by the applicable countervailing duty imposed to offset the export subsidies most recently found in the countervailing duty proceeding covering PET film from India. Additionally, for Jindal, we added to the starting price an amount for duty drawback pursuant to section 772(c)(1)(B) of the Act.

We based the price of Polyplex's U.S. sales of subject merchandise on CEP, in accordance with section 772(b) of the Act, because Polyplex sold subject merchandise to unaffiliated purchasers in the United States after importation through its U.S. affiliate, Spectrum Marketing, Inc. (Spectrum). We calculated CEP using prices, less discounts, for packed subject merchandise delivered to the first unaffiliated purchaser in the United States. In accordance with sections 772(c)(2)(A) and 772(d)(1) and (3) of the Act, we made deductions from the starting price, where appropriate, for the following expenses: foreign and U.S. inland freight, U.S. brokerage and handling, international freight, marine insurance, U.S. duties, U.S. warehousing expense, direct and indirect selling, to the extent these expenses are associated with economic activity in the United States, and CEP profit. In accordance with section 772(c)(1)(C) of the Act, where appropriate, we increased U.S. price by the applicable countervailing duty imposed to offset the export subsidies found in the most recently completed administrative review of the countervailing duty order on PET film from India.

Normal Value

After testing home market viability, whether comparison-market sales to affiliates were at arm's-length prices, and whether comparison-market sales were at below-cost prices, we calculated NV for respondents as noted in the “Price-to-Price Comparisons” section of this notice.

A. Home Market Viability

In accordance with section 773(a)(1)(C) of the Act, in order to determine whether there was a sufficient volume of sales in the home market to serve as a viable basis for calculating NV (i.e., the aggregate volume of home market sales of the foreign like product is greater than or equal to five percent of the aggregate volume of U.S. sales), we compared the aggregate volume of each respondent's home market sales of the foreign like product to the aggregate volume of its U.S. sales of subject merchandise. Because the aggregate volume of each respondent's home market sales of foreign like product is more than five percent of the aggregate volume of its U.S. sales of subject merchandise, we based NV on sales of the foreign like product in the respondent's home market. See section 773(a)(1)(C)(ii) of the Act.

B. Affiliated-Party Transactions and Arm's-Length Test

The Department may calculate NV based on a sale to an affiliated party only if it is satisfied that the price to the affiliated party is comparable to the price at which sales are made to parties not affiliated with the exporter or producer, i.e., sales at arm's-length. See 19 CFR § 351.403(c). Sales to affiliated customers for consumption in the home market that were determined not to be at arm's-length were excluded from our analysis. Polyplex, reported sales of the foreign like product to an affiliated customer. To test whether these sales were made at arm's-length prices, the Department compared the prices of sales of comparable merchandise to affiliated and unaffiliated customers, net of all rebates, movement charges, direct selling expenses, and packing. Pursuant to 19 CFR § 351.403(c), and in accordance with the Department's practice, when the prices charged to an affiliated party were, on average, between 98 and 102 percent of the prices charged to unaffiliated parties for merchandise comparable to that sold to the affiliated party, we determined that the sales to the affiliated party were at arm's-length. See Antidumping Proceedings: Affiliated Party Sales in the Ordinary Course of Trade, 67 FR 69186 (November 15, 2002). Polyplex's sales to its affiliated home market customer did not pass the arm's-length test. Therefore, we have excluded these sales from our analysis.

C. Cost of Production (COP) Analysis

In the most recently completed proceeding segments in which Jindal and Polyplex received a calculated dumping margin, the Department determined that these companies sold certain foreign like product at prices below the cost of producing the merchandise and excluded such sales from the calculation of NV. For Polyplex, see Notice of Final Determination of Sales at Less Than Fair Value: Polyethylene Terephthalate Film, Sheet, and Strip from India, 67 FR 34899 (May 16, 2002) as amended on July 1, 2002 (67 FR 44175) (Amended Final Determination); for Jindal see Certain Polyethylene Terephthalate Film, Sheet and Strip from India: Final Results of Antidumping Duty Administrative Review, 70 FR 8072 (February 17, 2005). Therefore, in accordance with section 773(b)(2)(A)(ii) of the Act, there are reasonable grounds to believe or suspect that during the instant POR, Jindal and Polyplex sold foreign like product at prices below the cost of producing the merchandise. As a result, the Department initiated a cost of production inquiry with respect to Jindal and Polyplex. The Department, however, has not initiated a cost of production inquiry with respect to MTZ because MTZ has never been a respondent in a prior segment of this proceeding and no party alleged, in this segment of the proceeding, that MTZ sold foreign like product below the cost of production.

1. Calculation of COP

In accordance with section 773(b)(3) of the Act, for each unique foreign like product sold by Jindal and Polyplex during the POR, we calculated a weighted-average COP based on the sum of the respondent's materials and fabrication costs, general and administrative expenses, interest expenses, and import duties normally associated with imported material. See Stainless Steel Sheet and Strip in Coils from Mexico; Final Results of Antidumping Duty Administrative Review 68 FR 6889 (February 11, 2003). For further information, see the analysis memoranda for Jindal and Polyplex, dated concurrently with this notice.

2. Test of Comparison Market Sales Prices

In order to determine whether sales were made at prices below the COP on a product-specific basis, we compared the respondent's weighted-average COP to the prices of its home market sales of foreign like product, as required under section 773(b) of the Act. In accordance with sections 773(b)(1)(A) and (B) of the Act, in determining whether to disregard home market sales made at prices less than the COP, we examined whether such sales were made: (1) in substantial quantities within an extended period of time; and (2) at prices which permitted the recovery of all costs within a reasonable period of time. We compared the COP to home market sales prices, less any applicable movement charges and direct and indirect selling expenses.

3. Results of the COP Test

Pursuant to section 773(b)(2)(C) of the Act, where less than 20 percent of a respondent's sales of a given product were made at prices less than the COP, we did not disregard any below-cost sales of that product because the below-cost sales were not made in “substantial quantities.” Where 20 percent or more of a respondent's sales of a given product were made at prices less than the COP during the POR, we determined such sales to have been made in “substantial quantities” and within an extended period of time pursuant to sections 773(b)(2)(B) and (C) of the Act. In such cases, because we used POR average costs, we also determined, in accordance with section 773(b)(2)(D) of the Act, that such sales were not made at prices which would permit recovery of all costs within a reasonable period of time. Based on this test, we disregarded below-cost sales for Jindal and Polyplex.

Price-to-Price Comparisons

Where it was appropriate to base NV on prices, we used the prices at which the foreign like product was first sold for consumption in the home market, in the usual commercial quantities, in the ordinary course of trade, and, to the extent possible, at the same LOT as the comparison U.S. sale. We calculated NV using prices, less any discounts or rebates, for packed foreign like product delivered to unaffiliated purchasers or, where appropriate, affiliated purchasers in the home market. In accordance with sections 773(a)(6)(A), (B), and (C) of the Act, where appropriate, we deducted from the starting price the following home market expenses: movement, inland insurance, packing, credit, commissions, and other direct selling. For Jindal and MTZ, we added to the starting price the following U.S. expenses: packing, credit, and other direct selling. In addition, for Jindal, we added interest revenue to the starting price. For Polyplex, we added U.S. packing costs and interest revenue to the starting price. Finally, where appropriate, we made price adjustments for physical differences in the merchandise and made a reasonable allowance for other selling expenses where commissions were paid in only one of the markets under consideration. See 773(a)(6)(C)(ii) of the Act and 19 CFR § 351.410(e).

Currency Conversion

Pursuant to section 773A(a) of the Act, we converted amounts expressed in foreign currencies into U.S. dollar amounts based on the exchange rates in effect on the dates of the U.S. sales, as certified by the Federal Reserve Bank.

Preliminary Results of Review

As a result of this review, we preliminarily determine that the following weighted-average dumping margins exist for the period July 1, 2004, through June 30, 2005:

Manufacturer/Exporter | Margin (percent)
Jindal Poly Films Limited | 2.33
MTZ Polyfilms, Ltd | 0.00
Polyplex Corporation Ltd. | 0.01

Public Comment

Within 10 days of publicly announcing the preliminary results of this review, we will disclose to interested parties any calculations performed in connection with the preliminary results. See 19 CFR § 351.224(b). Any interested party may request a hearing within 30 days of the publication of this notice in the Federal Register. See 19 CFR § 351.310(c). If requested, a hearing will be held 44 days after the date of publication of this notice in the Federal Register, or the first workday thereafter. Interested parties are invited to comment on the preliminary results of this review. The Department will consider case briefs filed by interested parties within 30 days after the date of publication of this notice in the Federal Register. Also, interested parties may file rebuttal briefs, limited to issues raised in the case briefs. The Department will consider rebuttal briefs filed not later than five days after the time limit for filing case briefs. Parties who submit arguments are requested to submit with each argument: (1) a statement of the issue, (2) a brief summary of the argument and (3) a table of authorities. Further, we request that parties submitting written comments provide the Department with a diskette containing an electronic copy of the public version of such comments. Unless the deadline for issuing the final results of review is extended, the Department will issue the final results of this administrative review, including the results of its analysis of issues raised in the written comments, within 120 days of publication of the preliminary results in the Federal Register.

Assessment Rates

In accordance with 19 CFR § 351.212(b)(1), in these preliminary results of review we calculated importer-specific assessment rates or, where the importer was not known, customer-specific assessment rates for each respondent. If a respondent did not report the entered value of its sales, we calculated per-unit assessment rates for the respondent by summing, on an importer or customer-specific basis, the dumping margins calculated for all of the respondent's sales to the importer or customer and dividing this amount by the total quantity of those sales. If the importer/customer-specific assessment rate is above de minimis (i.e., 0.50 percent ad valorem or greater), we will instruct CBP to assess the importer/customer-specific rate uniformly, as appropriate, on all entries of subject merchandise during the POR that were entered by the importer or sold to the customer. To determine whether the per-unit duty assessment rates are de minimis (i.e., less than 0.50 percent ad valorem), in accordance with the requirement set forth in 19 CFR § 351.106(c)(2), we calculated customer-specific ad valorem ratios based on the export prices. The Department will issue appropriate assessment instructions based on the final results of review directly to CBP within 15 days of publication of those final results.

Cash Deposit Requirements

The following cash deposit requirements will be effective for all shipments of the subject merchandise entered, or withdrawn from warehouse, for consumption on or after the publication date of the final results of this administrative review, as provided by section 751(a)(1) of the Act: (1) The cash deposit rates for the companies examined in the instant review will be the rate established in the final results of this review (except that if the rate for a particular company is de minimis, i.e., less than 0.5 percent, no cash deposit will be required for that company); (2) for previously investigated or reviewed companies not listed above, the cash deposit rate will continue to be the company-specific rate published for the most recent period; (3) if the exporter is not a firm covered in this review, a prior review, or the less-than-fair-value (LTFV) investigation, but the manufacturer is, the cash deposit rate will be the rate established for the most recent period for the manufacturer of the subject merchandise; and (4) the cash deposit rate for all other manufacturers or exporters will continue to be the “all others” rate of 5.71 percent, which is the “all others” rate established in the LTFV investigation, adjusted for the export subsidy rate in the countervailing duty investigation. See Amended Final Determination. These cash deposit rates, when imposed, shall remain in effect until publication of the final results of the next administrative review.

Notification to Importers

This notice also serves as a preliminary reminder to importers of their responsibility under 19 CFR § 351.402(f)(2) to file a certificate regarding the reimbursement of antidumping and countervailing duties prior to liquidation of the relevant entries during this review period. Failure to comply with this requirement could result in the Secretary's presumption that reimbursement of antidumping and countervailing duties occurred and the subsequent assessment of double antidumping duties.

We are issuing and publishing this notice in accordance with sections 751(a)(1) and 777(i)(1) of the Act.

Dated: April 3, 2006.
David M. Spooner,
Assistant Secretary for Import Administration.

[FR Doc. E6-5404 Filed 4-11-02; 8:45 am]

Billing Code: 3510-DS-S